DEPARTMENT OF HEALTH AND HUMAN SERVICES

Centers for Disease Control and Prevention

National Trauma Information and Exchange Program

Announcement Type: Competing Continuation Funding.

Opportunity Number: 04075.

Catalog of Federal Domestic Assistance Number: 93.136.

Key Dates:

Letter of Intent Deadline: May 13, 2004.

Application Deadline: July 12, 2004.

I. Funding Opportunity Description

Authority: This program is authorized under sections 301(a) and 317(k)(2) of the Public Health Service Act, [42 U.S.C. sections 241(a) and 247b(k)(2)] as amended.

Purpose: The purpose of the Trauma Information and Exchange Program (TIEP) is to make data and information on trauma care in the United States more accessible to a broad spectrum of individuals and organizations, including trauma care professionals and professional associations, trauma centers and other acute care hospitals, trauma care systems, emergency medical services (EMS) systems, injury researchers and research organizations, public health agencies, health care payers, and the general public. TIEP will also foster the exchange and use of information to improve trauma care. This program addresses the “Healthy People 2010” focus area of Injury and Violence Prevention.

Measurable outcomes of the program will be in alignment with the National Center for Injury Prevention and Control (NCIPC): Increase the capacity of injury prevention and control programs to address the prevention of injuries and violence.

Activities: Awardee activities for this program are as follows:

1. Provide a full-time director/coordinator with authority and responsibility to fulfill the requirements of the program.

2. Provide qualified staff, other resources, and knowledge to implement the components of the program.

3. Develop and implement a comprehensive plan to periodically update a detailed description of trauma centers in the United States, including key personnel, as well as their capabilities.

4. Develop and implement a plan that enables an exchange of information among trauma centers and trauma organizations nationwide.

5. Develop and implement a plan for a uniform surveillance system for trauma centers that will enable researchers and research organizations to conduct research on quality of trauma care and trauma center and trauma system effectiveness.

6. Develop and implement a plan for the dissemination of available information on trauma, trauma centers, and trauma care systems to the public, researchers and healthcare practitioners.

II. Award Information

Type of Award: Grant.

Fiscal Year Funds: 2004.

Approximate Total Funding: $495,000.

Approximate Number of Awards: One.

Approximate Average Award: $495,000.

Floor of Award Range: None.

Ceiling of Award Range: $495,000.

If you request a funding amount greater than the ceiling of the award range, your application will be considered non-responsive, and will not be entered into the review process. You will be notified that your application did not meet the submission requirements.

Anticipated Award Date: September 1, 2004.

Budget Period Length: 12 months.

Project Period Length: One year.

Throughout the project period, CDC's commitment to continuation of awards will be conditioned on the availability of funds, evidence of satisfactory progress by the recipient (as documented in required reports), and the determination that continued funding is in the best interest of the Federal Government.

III. Eligibility Information

1. Eligible applicants: Applications may be submitted by public and private organizations, community-based organizations and by governments and their agencies, such as:

• Public nonprofit organizations.

• Private nonprofit organizations.

• Small, minority, women-owned businesses.

• Universities.

• Colleges.

• Research institutions.

• Hospitals.

• Community-based organizations.

• Faith-based organizations.

• Federally recognized Indian tribal governments.

• Indian tribes.

• Indian tribal organizations.

• State and local governments or their Bona Fide Agents (this includes the District of Columbia, the Commonwealth of Puerto Rico, the Virgin Islands, the Commonwealth of the Northern Marianna Islands, American Samoa, Guam, the Federated States of Micronesia, the Republic of the Marshall Islands, and the Republic of Palau).

• Political subdivisions of States (in consultation with States).

A Bona Fide Agent is an agency/organization identified by the State as eligible to submit an application under the State eligibility in lieu of a State application. If you are applying as a bona fide agent of a State or local government, you must provide a letter from the State or local government as documentation of your status. Place this documentation behind the first page of your application form.

III.2. Cost Sharing or Matching

Matching funds are not required for this program.

III.3. Other Eligibility Requirements

If your application is incomplete or non-responsive to the requirements listed below, it will not be entered into the review process. You will be notified that your application did not meet the submission requirements.

• If you request a funding amount greater than the ceiling of award range.

Note: Title 2 of the United States Code section 1611 states that an organization described in section 501(c)(4) of the Internal Revenue Code that engages in lobbying activities is not eligible to receive Federal funds constituting an award, grant, or loan.

IV. Application and Submission Information

IV.1. Address To Request Application Package

To apply for this funding opportunity use application form PHS 5161. Application forms and instructions are available on the CDC Web site, at the following Internet address: http://www.cdc.gov/od/pgo/forminfo.htm.

If you do not have access to the Internet, or if you have difficulty accessing the forms on-line, you may contact the CDC Procurement and Grants Office Technical Information Management Section (PGO-TIM) staff at: 770-488-2700. Application forms can be mailed to you.

IV.2. Content and Form of Submission

Letter of Intent (LOI): CDC requests that you send a LOI if you intend to apply for this program. Although the LOI is not required, not binding, and does not enter into the review of your subsequent application, the LOI will be used to gauge the level of interest in this program, and to allow CDC to plan the application review. Your LOI must be written in the following format:

• Maximum number of pages: Two.

• Font size: 12-point unreduced.

• Double spaced.

• Paper size: 8.5 by 11 inches.

• Page margin size: One inch.

• Printed only on one side of page.

• Written in plain language, avoid jargon.

Application: You must submit a project narrative with your application forms. Your narrative must be submitted in the following format:

• Maximum number of pages: 20.

• If your narrative exceeds the page limit, only the first pages, which are within the page limit, will be reviewed.

• Font size: 12 point unreduced.

• Paper size: 8.5 by 11 inches.

• Page margin size: One inch.

• Printed only on one side of page.

• Held together only by rubber bands or metal clips; not bound in any other way.

Your narrative should address activities to be conducted over the entire project period, and must include the following items in the order listed:

• Background and Need.

• Methods.

• Evaluation.

• Staff and Resources.

• Budget and justification.

You are required to have a Dun and Bradstreet Data Universal Numbering System (DUNS) number to apply for a grant or cooperative agreement from the Federal government. The DUNS number is a nine-digit identification number, which uniquely identifies business entities. Obtaining a DUNS number is easy and there is no charge. To obtain a DUNS number, access http://www.dunandbradstreet.com or call 1-866-705-5711. For more information, see the CDC Web site at: http://www.cdc.gov/od/pgo/funding/pubcommt.htm.

If your application form does not have a DUNS number field, please write your DUNS number at the top of the first page of your application, and/or include your DUNS number in your application cover letter.

IV.3. Submission Dates and Times

LOI Deadline Date: May 13, 2004.

Application Deadline Date: July 12, 2004.

Explanation of Deadlines: Applications must be received in the CDC Procurement and Grants Office by 4 p.m. Eastern Time on the deadline date. If you send your application by the United States Postal Service or commercial delivery service, you must ensure that the carrier will be able to guarantee delivery of the application by the closing date and time. If CDC receives your application after closing due to: (1) Carrier error, when the carrier accepted the package with a guarantee for delivery by the closing date and time, or (2) significant weather delays or natural disasters, you will be given the opportunity to submit documentation of the carriers guarantee. If the documentation verifies a carrier problem, CDC will consider the application as having been received by the deadline.

This announcement is the definitive guide on application submission address and deadline. It supersedes information provided in the application instructions. If your application does not meet the deadline above, it will not be eligible for review, and will be discarded. You will be notified that your application did not meet the submission requirements.

CDC will not notify you upon receipt of your application. If you have a question about the receipt of your application, first contact your courier. If you still have a question, contact the PGO-TIM staff at: 770-488-2700. Before calling, please wait two to three days after the application deadline. This will allow time for applications to be processed and logged.

IV.4. Intergovernmental Review of Applications

Executive Order 12372 does not apply to this program.

IV.5. Funding Restrictions

Restrictions, which must be taken into account while writing your budget, are as follows:

• None

If you are requesting indirect costs in your budget, you must include a copy of your indirect cost rate agreement. If your indirect cost rate is a provisional rate, the agreement must be less than 12 months of age. Guidance for completing your budget can be found on the CDC Web site, at the following Internet address: http://www.cdc.gov/od/pgo/funding/budgetguide.htm.

IV.6. Other Submission Requirements

LOI Submission Address: Phyllis C. McGuire, Project Officer, Centers for Disease Control and Prevention, National Center for Injury Prevention and Control, 4770 Buford Highway NE., Mailstop F-41, Atlanta, GA 30341-3724, Telephone: 770-488-1275, E-mail address: PMcGuire@cdc.gov.

Application Submission Address: Submit the original and two copies of your application by mail or express delivery service to: Technical Information Management—PA 04075, CDC Procurement and Grants Office, 2920 Brandywine Road, Atlanta, GA 30341.

Applications may not be submitted electronically at this time.

V. Application Review Criteria

V.1. Criteria

You are required to provide measures of effectiveness that will demonstrate the accomplishment of the various identified objectives of the grant. Measures of effectiveness must relate to the performance goals stated in the “Purpose” section of this announcement. Measures must be objective and quantitative, and must measure the intended outcome. These measures of effectiveness must be submitted with the application and will be an element of evaluation.

1. Background and Need (40 Percent)

Applicant should describe the background and need for a comprehensive trauma information program including; development, current challenges in organizing and delivering trauma care, challenges of developing and maintaining trauma systems, implementation and evaluation of a plan to periodically update a detailed description of trauma centers in the United States, development of a plan to exchange information and link resources of trauma centers and a plan for a uniform surveillance program.

2. Methods (30 Percent)

Applicant should provide a detailed description of all proposed activities required to implement a comprehensive trauma information and exchange program including letters of support and collaboration needed to achieve each objective and the overall program goal(s). Applicants should provide a reasonable, logically sequenced and complete schedule for implementing all activities. Applicant should include position descriptions, lines of command, and collaborations as appropriate to accomplishing the program goal(s) and objectives. Applicant should describe a plan and implementation dissemination of available trauma information.

3. Staff and Resources (20 Percent)

Can applicant provide adequate facilities, staff and/or collaborators, including a full-time coordinator and resources to accomplish the proposed goal(s)and objectives during the project period? Applicant should demonstrate staff and/or collaborator availability, expertise, previous experience, and capacity to perform the undertaking successfully.

4. Evaluation (10 Percent)

The proposed evaluation plan should be detailed and capable of documenting program process and outcome measures. Applicant should demonstrate staff and/or collaborator availability, expertise, and capacity to perform the evaluation.

5. Budget and Justification (Not Scored)

Itemized budget and justification for the estimated costs of the contract; specify the period of performance, and method of selection.

A detailed budget and narrative justification consistent with the stated objectives and planned program activities should be included. CDC may not approve or fund all proposed activities. The applicant should be precise about the program purpose of each budget item. Proposed contracts should identify the name of the contractor, if known; describe the services to be performed; provide an itemized budget and justification for the estimated costs of the contract; specify the period of performance, and method of selection.

V.2. Review and Selection Process

Application will be reviewed for completeness by the Procurement and Grants Office (PGO) staff, and for responsiveness by the NCIPC. Incomplete applications and applications that are non-responsive to the eligibility criteria will not advance through the review process. Applicants will be notified that their application did not meet submission requirements.

An objective review panel will evaluate complete and responsive applications according to the criteria listed in the “Review Criteria” section above.

V.3. Anticipated Announcement and Award Dates

Anticipated award date: September 1, 2004.

VI. Award Administration Information

VI.1. Award Notices

Successful applicants will receive a Notice of Grant Award (NGA) from the CDC Procurement and Grants Office. The NGA shall be the only binding, authorizing document between the recipient and CDC. The NGA will be signed by an authorized Grants Management Officer, and mailed to the recipient fiscal officer identified in the application.

VI.2. Administrative and National Policy Requirements

45 CFR Part 74 and Part 92

For more information on the Code of Federal Regulations, see the National

Archives and Records Administration at the following Internet address: http://www.access.gpo.gov/nara/cfr/cfr-table-search.html.

The following additional requirements apply to this project:

• AR-8 Public Health System Reporting Requirements

• AR-9 Paperwork Reduction Act Requirements

• AR-10 Smoke-Free Workplace Requirements

• AR-11 Healthy People 2010

• AR-12 Lobbying Restrictions

• AR-13 Prohibition on Use of CDC Funds for Certain Gun Control Activities

• AR-14 Accounting System Requirements

• AR-15 Proof of Non-Profit Status

• AR-21 Small, Minority, and Women-Owned Business

• AR-22 Research Integrity

• AR-23 States and Faith-Based Organizations

Additional information on these requirements can be found on the CDC Web site at the following Internet address: http://www.cdc.gov/od/pgo/funding/ARs.htm.

VI.3. Reporting Requirements

You must provide CDC with an original, plus two hard copies of the following reports:

1. Interim progress report, no less than 90 days before the end of the budget period. The progress report will serve as your non-competing continuation application, and must contain the following elements:

a. Current Budget Period Activities Objectives.

b. Current Budget Period Financial Progress.

c. New Budget Period Program Proposed Activity Objectives.

d. Budget.

e. Additional Requested Information.

f. Measures of Effectiveness.

2. Financial status report and annual progress report, no more than 90 days after the end of the budget period.

3. Final financial and performance reports, no more than 90 days after the end of the project period.

These reports must be mailed to the Grants Management or Contract Specialist listed in the “Agency Contacts” section of this announcement.

VII. Agency Contacts

For program technical assistance, contact: Phyllis C. McGuire, Project Officer, Centers for Disease Control and Prevention, National Center for Injury Prevention and Control, 4770 Buford Highway NE., Mailstop F41, Atlanta, GA 30341-3724, Telephone: 770-488-1275, E-mail address: PMcGuire@cdc.gov.

For budget assistance, contact: Angie Tuttle, Grants Management Specialist, CDC Procurement and Grants Office, 2920 Brandywine Road, Atlanta, GA 30341, Telephone: 770.488.2719, E-mail: AEN4@cdc.gov.

Dated: April 7, 2004.
William P. Nichols,
Acting Director, Procurement and Grants Office, Centers for Disease Control and Prevention.

[FR Doc. 04-8293 Filed 4-12-04; 8:45 am]

BILLING CODE 4163-18-P